Title 3—

The President

Proclamation 7675 of May 9, 2003

Peace Officers Memorial Day and Police Week, 2003

By the President of the United States of America

A Proclamation

Every day across the country, from our largest cities to our quietest crossroads, peace officers stand watch over our citizens, selflessly risking their lives to protect individuals, families, neighborhoods, and property against crime. This week, we salute these men and women for their courage, commitment, and service, and we honor those who have fallen in the line of duty. We also reaffirm our commitment to supporting law enforcement by bringing our communities together to fight crime.

Peace officers fulfill a great calling in upholding the rule of law in our society. Law enforcement officers choose their profession and take their oaths knowing that theirs is a dangerous job. They accept these risks, answering the call of duty and demonstrating a willingness to serve that reflects the best of America.

As they work to protect our communities, peace officers often place themselves in harm's way. Some make the ultimate sacrifice in defense of others. During Police Week, and particularly on Peace Officers Memorial Day, we pay tribute to the 148 law enforcement officers who gave their lives in the line of duty last year. Those who have fallen are remembered in our hearts and in the memory of our country. Through their service and sacrifice, they have earned our Nation's respect and gratitude.

As we honor these fallen heroes, we should also resolve to support all law enforcement officers by becoming active in the fight against crime. Strong communities and neighborhoods help deter crime. By coming together as neighbors, and by looking out for each other, Americans can assist law enforcement in preventing crime in our communities and also help secure our homeland from the threat of terrorism. In the new world we face since September 11, one of our best defenses is a vigilant public working with law enforcement to help protect our land.

I created the USA Freedom Corps to foster a culture of service, citizenship, and responsibility in America, and to provide opportunities for Americans to get involved in helping their communities. A key component of Freedom Corps is the Citizen Corps, which helps coordinate volunteer activities that make our communities safer, stronger, and better prepared for emergencies. Since the Citizens Corps was launched last year, more than 500 Citizen Corps Councils have been established, bringing together first responders, local government officials, and volunteer service organizations.

Volunteers are also working with police departments through more than 430 Volunteers in Police Service programs in our Nation. Additionally, the number of registered Neighborhood Watch groups continues to grow. To build on these successes, we should continue to strengthen partnerships between citizens and local law enforcement and work to engage more volunteers in public safety and emergency preparedness. By joining together to fight crime, we honor the memory and uphold the legacy of all those who gave their lives to preserve our safety and security.

By a joint resolution approved October 1, 1962, as amended, (76 Stat. 676), the Congress has authorized and requested the President to designate May 15 of each year as “Peace Officers Memorial Day” and the week in which it falls as “Police Week,” and, by Public Law 103-322, as amended, (36 U.S.C. 136), has directed that the flag be flown at half-staff on Peace Officers Memorial Day.

NOW, THEREFORE, I, GEORGE W. BUSH, President of the United States of America, do hereby proclaim May 15, 2003, as Peace Officers Memorial Day and May 11 through May 17, 2003, as Police Week. I call on all Americans to observe these events with appropriate ceremonies and activities. I also call on Governors of the United States and the Commonwealth of Puerto Rico, as well as appropriate officials of all units of government, to direct that the flag be flown at half-staff on Peace Officers Memorial Day. I further encourage all Americans to display the flag at half-staff from their homes and businesses on that day.

IN WITNESS WHEREOF, I have hereunto set my hand this ninth day of May, in the year of our Lord two thousand three, and of the Independence of the United States of America the two hundred and twenty-seventh.

B

[FR Doc. 03-12196

Filed 5-13-03; 8:45 am]

Billing code 3195-01-P